DEPARTMENT OF ENERGY

Federal Energy Regulatory Commission

[Docket No. CP01-396-000]

Equitrans, L.P. and Equitable Field Services, L.L.C. Notice of Abandonment Application

July 11, 2001

Take notice that on July 2, 2001, Equitrans, L.P. (Equitrans), 100 Allegheny Center Mall, Pittsburgh, Pennsylvania 15212, and Equitable Field Services, L.L.C. (EFS), 1710 Pennsylvania Avenue, Charleston, West Virginia 25302, filed an application in Docket No. CP01-396-000 pursuant to Section 1(b) and 7(b) of the Natural Gas Act (NGA) for permission and approval to abandon certain certificated facilities by sale to EFS as part of a sale to EFS of five gathering systems. The application also requests that the Commission determine that the facilities sold to EFS, and the services rendered by means of such facilities, are non-jurisdictional gathering facilities and services, and will be exempt from the Commission's jurisdiction under the NGA.

EFS proposes to operate the facilities to be abandoned and other facilities to be acquired from Equitrans in Allegheny, Armstrong, Greene, Indiana and Washington Counties, Pennsylvania; and in Braxton, Clay, Doddridge, Fayette, Gilmer, Harrison, Lewis, Marion, Nicholas, Ritchie, Taylor, Tyler, Upshur and Wetzel Counties, West Virginia as a gas gatherer providing gas gathering and related services on a non-discriminatory basis to all customers, all as more fully set forth in the application which is on file with the Commission and open to public inspection. This filing may be viewed on the web at http://www.ferc.gov using the “RIMS” link, select “Docket#” from the RIMS Menu and follow the instructions (please call (202) 208-2222 for assistance).

Any questions regarding this application should be directed to Fredrick K. Dalena, Vice President, 100 Allegheny Center Mall, Pittsburgh, PA 15212, at (412) 395-3270 or Donald R. Nelson, Rate Analyst, at (412) 395-3237.

There are two ways to become involved in the Commission's review of this abandonment. First, any person wishing to obtain legal status by becoming a party to the proceedings for this abandonment should, on or before August 1, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this abandonment. The Commission will consider these comments in determining the appropriate action to be taken, but the filing of a comment alone will not serve to make the filer a party to the proceeding. The Commission's rules require that persons filing comments in opposition to the abandonment provide copies of their protests only to the party or parties directly involved in the protest.

Persons who wish to comment only on the environmental review of this abandonment should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying abandonment will be issued.

David P. Boergers
Secretary.

[FR Doc. 01-17807 Filed 7-16-01; 8:45 am]

BILLING CODE 6717-01-P